DEPARTMENT OF HOMELAND SECURITY

United States Visitor and Immigrant Status Indicator Technology Program

Processing Additional Aliens Privacy Impact Assessment

AGENCY: Privacy Office, Office of the Secretary, DHS.

ACTION: Notice of availability of a Privacy Impact Assessment.

SUMMARY: The Department of Homeland Security has updated and is making available its United States Visitor and Immigrant Status Indicator Technology Program (US-VISIT) Privacy Impact Assessment (PIA) to discuss the impact of program change on privacy. The PIA can be found under the Privacy Impact Assessment Section of the Privacy Office's Web site, www.dhs.gov/privacy.

DATES: The Privacy Impact Assessment will be available for a minimum of (60) days.

FOR FURTHER INFORMATION CONTACT: Steve Yonkers, Privacy Officer, US-VISIT, Department of Homeland Security, Washington, DC 20528, telephone (202) 298-5200, facsimile (202) 298-5201, e-mail: usvisitprivacy@dhs.gov; Maureen Cooney, Acting Chief Privacy Officer, Department of Homeland Security, Mail Stop 0550, 601 S. 12th Street, Arlington, VA 22202-4220; by telephone (571) 227-3813, facsimile (571) 227-4171, or e-mail: privacy@dhs.gov.

SUPPLEMENTARY INFORMATION: The Department of Homeland Security (DHS) has updated and is making available its US-VISIT PIA to discuss the impact of a program change on privacy. The PIA updates relate to the proposal by DHS to expand the US-VISIT population to cover additional classes of aliens under a Notice of Proposed Rulemaking titled Authority to Process Additional Aliens in US-VISIT published in today's Federal Register. The revised PIA is available on the Web site of the DHS Privacy Office, www.dhs.gov/privacy, under Privacy Impact Assessments, and on the US-VISIT Web site, www.dhs.gov/usvisit. The original US-VISIT PIA was published in the Federal Register on January 16, 2004 (69 FR 2608); revised versions reflecting subsequent changes were published on September 23, 2004 (69 FR 57036), and on July 7, 2005 (70 FR 39300).

Dated: July 19, 2006.
Maureen Cooney,
Acting Chief Privacy Officer.

[FR Doc. E6-11994 Filed 7-26-06; 8:45 am]

BILLING CODE 4410-10-P